SMALL BUSINESS ADMINISTRATION

[Disaster Declaration # 10130]

Montana Disaster # MT-00001 Declaration of Economic Injury

AGENCY: Small Business Administration.

ACTION: Notice.

SUMMARY: This is a notice of an Economic Injury Disaster Loan (EIDL) declaration for the State of Montana, dated 06/23/2005.

Incident: Closure of Highway 212, Beartooth Highway caused by landslides.

Incident Period: 05/20/2005 and continuing.

DATES: Effective Date: 06/23/2005.

EIDL Loan Application Deadline Date: 03/23/2006.

ADDRESSES: Submit completed loan applications to: U.S. Small Business Administration, Disaster Area Office 3, 14925 Kingsport Road, Fort Worth, TX 76155.

FOR FURTHER INFORMATION CONTACT: Alan Escobar, Office of Disaster Assistance, U.S. Small Business Administration, 409 3rd Street, Suite 6050, Washington, DC 20416.

SUPPLEMENTARY INFORMATION: Notice is hereby given that as a result of the Administrator's EIDL declaration on 06/23/2005, applications for economic injury disaster loans may be filed at the address listed above or other locally announced locations.

The following areas have been determined to be adversely affected by the disaster:

Primary Counties:

Carbon Park, Stillwater

Contiguous Counties:

Montana

Big Horn, Gallatin, Golden Valley,

Meagher, Sweet Grass, Yellowstone

Wyoming

Big Horn Park

The Interest Rate is: 4.000.

The number assigned to this disaster for economic injury is 101300.

The States which received an EIDL Declaration # are Montana, Wyoming

(Catalog of Federal Domestic Assistance Number 59002 )

Dated: June 23, 2005.
Hector V. Barreto,
Administrator.

[FR Doc. 05-13150 Filed 7-1-05; 8:45 am]

BILLING CODE 8025-01-P